DEPARTMENT OF DEFENSE

Office of the Secretary of Defense

Privacy Act of 1974; Systems of Records

AGENCY: Defense Logistics Agency, DoD.

ACTION: Notice to alter a system of records.

SUMMARY: The Defense Logistics Agency proposes to alter a system of records notice in its existing inventory of records systems subject to the Privacy Act of 1974, (5 U.S.C. 552a), as amended.

DATES: This proposed action will be effective without further notice on April 25, 2007 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on March 6, 2007, to the House Committee on Government Reform, the Senate Committee on Homeland Security and Governmental Affairs, and the Office of Management and Budget (OMB) pursuant to paragraph 4c of Appendix I to OMB Circular No. A-130, ‘Federal Agency Responsibilities for Maintaining Records About Individuals,' dated February 8, 1996 (February 20, 1996, 61 FR 6427).

Dated: March 16, 2007.
L.M. Bynum,
Alternate OSD Federal Register Liaison Officer, Department of Defense.

S500.60 CA

System name:

DLA Complaint Program Records (March 6, 1998, 63 FR 11226).

Changes:

System identifier:

Delete “CA” from entry.

System name:

Delete entry and replace with “Defense Logistics Agency Hotline Program Records.”

System location:

Delete entry and replace with “Director, DLA Criminal Investigations Activity, Headquarters, Defense Logistics Agency, ATTN: DI, 8725 John J. Kingman Road, Stop 2358, Fort Belvoir, VA 22060-6221, and at the offices of the designated Hotline Points of Contact of DLA Field Activities or DLA Headquarters Staff Directorates.

Official mailing addresses may be obtained from the System Manager below.”

Categories of individuals covered by the system:

Delete entry and replace with “Complainants, subjects, witnesses, and contractor employees.”

Categories of records in the system:

Delete entry and replace with “Records resulting from the receipt of a DOD/DLA Hotlines and resulting inquiries including the date of the complaint, the Hotline control number; the name of the complainant, the name of the suspect(s), and the actual allegations; Hotline documents from components transmitting the DOD/DLA Hotline Reports, which normally contain the name of the examining official(s) assigned to conduct the inquiry; and background information regarding the inquiry itself, such as the scope of the inquiry, relevant facts discovered, information received from witnesses, and specific source documents reviewed; the examining official's findings, conclusions, and recommendations; and the disposition of the inquiry; and internal DLA Hotline forms documenting review and analysis of Hotline Reports.”

* * * * *

Purpose(s):

Delete entry and replace with “To conduct inquiries of reported instances of alleged/suspected fraud, waste, abuse, or mismanagement.

To compile statistical information to disseminate on an as needed basis to HQ DLA, DLA Field Activities, and the Defense Hotline, DOD.

To provide a record of hotline disposition. Hotlines appearing to involve criminal wrongdoing will be referred to the Defense Criminal Investigative Service or other criminal investigative units of DOD Components.”

Routine uses of records maintained in the system, including categories of users and the purposes of such uses:

Delete entry and replace with “In addition to those disclosures generally permitted under 5 U.S.C. 552a(b) of the Privacy Act, these records or information contained therein may specifically be disclosed outside the DOD as a routine use pursuant to 5 U.S.C. 552a(b)(3) as follows:

To Federal, State, and local agencies having jurisdiction over or investigative interest in the substance of the allegations for investigative, corrective action, debarment, or reporting purposes.

To Government contractors employing individuals who are subjects of a hotline.

To DLA contractors or vendors when the Hotline pertains to a person they employ or to a product or service they provide to DOD when disclosure is necessary to accomplish or support corrective action.

The DOD “Blanket Routine Uses” set forth at the beginning of DLA's compilation of systems of records notices apply to this system.”

* * * * *

Retrievability:

Delete entry and replace with “Records are retrieved by name of complainant, name of subject/offender, hotline topic, inquiry number, witness, National Stock Number, Contract Number, and contractor name and contractor employee name.”

Safeguards:

Delete entry and replace with “Physical entry is restricted by the use of guards, locks, and administrative procedures. System is password controlled with system-generated, forced password-change protocols or also equipped with ‘Smart Card’ technology that requires the insertion of an embedded identification card and entry of a PIN. In addition, computer screens lock after a preset period of inactivity with re-entry controlled by passwording. The DLA Hotline Database is also password controlled. Access to the database is limited to those DLA Hotline Program personnel who require the records in the performance of their official duties. Employees are periodically briefed on their responsibilities regarding privacy information. All individuals granted access to this system of records is to have taken Privacy Act training.”

Retention and disposal:

Delete entry and replace with “Disposition pending. Until the National Archives and Records Administration has approved the retention and disposal of these records, treat them as permanent.”

System manager and address:

Delete entry and replace with “Director, DLA Criminal Investigations Activity, Headquarters, Defense Logistics Agency, ATTN: DI, 8725 John J. Kingman Road, Stop 2358, Fort Belvoir, VA 22060-6221.”

* * * * *

Record source categories:

Delete entry and replace with “Information is provided by the Defense Hotline, subjects/offenders, complainants, witnesses, investigators, examining officials, personnel interviewed, and the Federal/State/DOD/DLA Hotline Program Offices.”

* * * * *

S500.60

System name:

Defense Logistics Agency Hotline Program Records.

System location:

Director, DLA Criminal Investigations Activity, Headquarters, Defense Logistics Agency, ATTN: DI, 8725 John J. Kingman Road, Stop 2358, Fort Belvoir, VA 22060-6221, and at the offices of the designated Hotline Points of Contact of DLA Field Activities or DLA Headquarters Staff Directorates. Official mailing addresses may be obtained from the System Manager below.

Categories of individuals covered by the system: Complainants, subjects, witnesses, and contractor employees.

Categories of records in the system:

Records resulting from the receipt of a DOD/DLA Hotline and resulting inquiries including the date of the complaint, the Hotline control number; the name of the complainant, the name of the suspect(s), and the actual allegations; Hotline documents from components transmitting the DOD/DLA Hotline Reports, which normally contain the name of the examining official(s) assigned to conduct the inquiry; and background information regarding the inquiry itself, such as the scope of the inquiry, relevant facts discovered, information received from witnesses, and specific source documents reviewed; the examining official's findings, conclusions, and recommendations; and the disposition of the inquiry; and internal DLA Hotline forms documenting review and analysis of Hotline Reports.

Authority for maintenance of the system:

5 U.S.C. 301, Departmental Regulations; 10 U.S.C. 133, Under Secretary of Defense for Acquisition, Technology, and Logistics; 5 U.S.C., Appendix 3, Inspector General Act of 1978, as amended; DOD Directive 5106.1, Inspector General of the Department of Defense; DOD Directive 7050.1, Defense Hotline Program; DOD Instruction 7050.7, Defense Hotline Procedures; DOD Instruction 7050.8, Defense Hotline Quality Assurance Review (QAR) Program; DOD Directive 5505.6, Investigations of Allegations Against Senior Officials of the Department of Defense; and The DLA One Book Process Chapter, DLA Hotline Program.

Purpose(s):

To conduct inquiries of reported instances of alleged/suspected fraud, waste, abuse, or mismanagement; to compile statistical information to disseminate on an as needed basis to HQ DLA, DLA Field Activities, and the Defense Hotline, DOD; and to provide a record of hotline disposition. Hotlines appearing to involve criminal wrongdoing will be referred to the Defense Criminal Investigative Service or other criminal investigative units of DOD Components.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

To Federal, State, and local agencies having jurisdiction over or investigative interest in the substance of the allegations for investigative, corrective action, debarment, or reporting purposes.

To Government contractors employing individuals who are subjects of a hotline.

To DLA contractors or vendors when the Hotline pertains to a person they employ or to a product or service they provide to DOD when disclosure is necessary to accomplish or support corrective action.

The DOD “Blanket Routine Uses” set forth at the beginning of DLA's compilation of systems of records notices apply to this system.

Policies and practices for storing, retrieving, accessing, retaining, and disposing of records in the system:

Storage:

Records may be retained in either hard copy or electronic/image format.

Retrievability:

Records are retrieved by name of complainant, name of subject/offender, hotline topic, inquiry number, witness, National Stock Number, Contract Number, and contractor name and contractor employee name.

Safeguards:

Physical entry is restricted by the use of guards, locks, and administrative procedures. System is password controlled with system-generated, forced password-change protocols or also equipped with “Smart Card” technology that requires the insertion of an embedded identification card and entry of a PIN. In addition, computer screens lock after a preset period of inactivity with re-entry controlled by passwording. The DLA Hotline Database is also password controlled. Access to the database is limited to those DLA Hotline Program personnel who require the records in the performance of their official duties. Employees are periodically briefed on their responsibilities regarding privacy information. All individuals granted access to this system of records is to have taken Privacy Act training.

Retention and disposal:

Disposition pending. Until the National Archives and Records Administration has approved the retention and disposal of these records, treat them as permanent.

System manager and address:

Director, DLA Criminal Investigations Activity, Headquarters, Defense Logistics Agency, ATTN: DI, 8725 John J. Kingman Road, Stop 2358, Fort Belvoir, VA 22060-6221.

Notification procedure:

Individuals seeking to determine whether information about themselves is contained in this system should address written inquiries to the Privacy Act Officer, Headquarters, Defense Logistics Agency, ATTN: DP, 8725 John J. Kingman Road, Stop 2533, Fort Belvoir, VA 22060-6221.

Individuals are required to provide their full name, address, and either a notarized signature or a signed and dated unsworn declaration, in accordance with 28 U.S.C. 1746, stating under penalty of perjury under U.S. law that the information contained in the request, including their identity, is true and correct.

Record access procedures:

Individuals seeking access to information about themselves contained in this system should address written inquiries to the Privacy Act Officer, Headquarters, Defense Logistics Agency, ATTN: DP, 8725 John J. Kingman Road, Stop 2533, Fort Belvoir, VA 22060-6221.

Individuals are required to provide their full name, address, and either a notarized signature or a signed and dated unsworn declaration, in accordance with 28 U.S.C. 1746, stating under penalty of perjury under U.S. law that the information contained in the request for access, including their identity, is true and correct.

Contesting record procedures:

The DLA rules for accessing records, for contesting contents, and appealing initial Agency determinations are contained in 32 CFR part 323 or may be obtained from the Privacy Act Officer, Headquarters, Defense Logistics Agency, ATTN: DP, 8725 John J. Kingman Road, Stop 2533, Fort Belvoir, VA 22060-6221.

Record source categories:

Information is provided by the Defense Hotline, subjects/offenders, complainants, witnesses, investigators, examining officials, personnel interviewed, and the Federal/State/DOD/DLA Hotline Program Offices.

Exemptions claimed for the system:

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and 3, (c) and (e) and published in 32 CFR part 323. For more information, contact the Privacy Act Officer, Headquarters, Defense Logistics Agency, ATTN: DP, 8725 John J. Kingman Road, Stop 2533, Fort Belvoir, VA 22060-6221.

[FR Doc. E7-5232 Filed 3-23-07; 8:45 am]

BILLING CODE 5001-06-P